DEPARTMENT OF ENERGY

Federal Energy Regulatory Commission

[Docket No. EL12-110-000]

Arkansas Electric Cooperative Corporation; Mississippi Delta Energy Agency; Clarksdale Public Utilities Commission; Public Service Commission of Yazoo City; South Mississippi Electric Power Association v. Entergy Services, Inc.; Notice of Complaint

Take notice that on September 28, 2012, pursuant to sections 206 and 212 of the Federal Energy Regulatory Commission's (Commission) Rules of Practice and Procedure, 18 CFR 385.206 and 385.212 and sections 206, 306, and 309 of the Federal Power Act (FPA), 16 USC 824(e) and § 825(h), Arkansas Electric Cooperative Corporation, Mississippi Delta Energy Agency, and its two members, Clarksdale Public Utilities Commission of the City of Clarksdale, Mississippi, and Public Service Commission of Yazoo City of the City of Yazoo City, Mississippi, and South Mississippi Electric Power Association (Complainants) filed a formal complaint against Entergy Services, Inc. (Respondent) alleging that, Respondent has not properly implemented the rate redetermination (Update) procedures contained in its Open Access Transmission Tariff (OATT), and, therefore, the 2012 Update filed in Docket No. ER12-1895-000 would impose rates and charges that are contrary to the OATT on file with the Commission and are unjust and unreasonable in violation of the FPA.

The Complainants certify that copies of the complaint were served on the contacts for the Respondent as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5 p.m. Eastern Time on October 18, 2012.

Dated: October 1, 2012.
Kimberly D. Bose,
Secretary.

[FR Doc. 2012-24830 Filed 10-9-12; 8:45 am]

BILLING CODE 6717-01-P